INTERNATIONAL TRADE COMMISSION

[Investigation Nos. 701-TA-318 and 731-TA-538 and 561 (Third Review)]

Sulfanilic Acid From China and India

Determination

On the basis of the record ¹ developed in the subject five-year reviews, the United States International Trade Commission (Commission) determines, pursuant to section 751(c) of the Tariff Act of 1930 (19 U.S.C. § 1675(c)), that revocation of the countervailing duty order on sulfanilic acid from India and antidumping duty orders on sulfanilic acid from China and India would be likely to lead to continuation or recurrence of material injury to an industry in the United States within a reasonably foreseeable time.

¹ The record is defined in sec. 207.2(f) of the Com mission's Rules of Practice and Procedure (19 CFR 207.2(f)).

Background

The Commission instituted these reviews on April 1, 2011 (76 FR 18248) and determined on July 5, 2011 that it would conduct expedited reviews (76 FR 50756, August 16, 2011).

The Commission transmitted its determination in these reviews to the Secretary of Commerce on October 4, 2011. The views of the Commission are contained in USITC Publication 4270 (October 2011), entitled Sulfanilic Acid From China and India: Investigation Nos. 701-TA-318 and 731-TA-538 and 561 (Third Review).

By order of the Commission.
Issued: October 4, 2011.
James R. Holbein,
Secretary to the Commission.

[FR Doc. 2011-26114 Filed 10-7-11; 8:45 am]

BILLING CODE 7020-02-P